ENVIRONMENTAL PROTECTION AGENCY

[FRL-6876-6]

National Wastewater Management Excellence Awards

AGENCY: Environmental Protection Agency (EPA).

ACTION: Notice; announcement of EPA's 2000 National Wastewater Management Excellence Awards Presentation at the Water Environment Federation's annual conference.

SUMMARY: The U.S. Environmental Protection will recognize municipalities and industries for outstanding and innovative technological achievements in wastewater treatment and pollution abatement programs at the annual National Wastewater Management Excellence Awards ceremony during the Water Environment Federation's (WEF) annual conference in Anaheim, California. We are recognizing projects or programs in operations and maintenance, beneficial use of biosolids, pretreatment, storm water management and combined sewer overflow controls. This action also announces the 2000 national awards winners.

DATES: Monday, October 16, 2000, 11:30 am to 1 pm.

ADDRESSES: The National awards presentation ceremony will be held at the Hilton Anaheim Hotel, 777 Convention Way, Anaheim, California.

FOR FURTHER INFORMATION CONTACT: Maria E. Campbell at the U.S. Environmental Protection Agency, Office of Wastewater Management, Municipal Assistance Branch, 1200 Pennsylvania Avenue NW., (4204), Washington, DC 20460, (202) 260-5815, or campbell.maria@epa.gov.

SUPPLEMENTARY INFORMATION: The National Wastewater Management Excellence Awards program is authorized under section 501 (a) and (e) of the Clean Water Act. The awards program provides national recognition and encourages public support of programs aimed at protecting the public's health and safety and the nation's water quality. State water pollution control agencies and EPA regional offices make recommendations to headquarters for the national awards. Programs being recognized are in compliance with applicable water quality requirements and have a satisfactory record with respect to environmental quality. Municipalities and industries are recognized for their demonstrated achievements through the following:

(1) Outstanding operations and maintenance practices at publicly owned wastewater treatment facilities;

(2) Exemplary biosolids operating projects, technology development, research and public acceptance efforts;

(3) Municipal implementation and enforcement of local pretreatment programs;

(4) Implementing outstanding, innovative, and cost-effective storm water control; and,

(5) Combined sewer overflow control programs. Winners and categories for the EPA's 2000 National Wastewater Management Excellence Awards program are as follows:

| Category
Operations and Maintenance Awards
First Place:
San Jose/Santa Clara WPCP, San Jose, California | Large Advanced Category.
Plum Creek Wastewater Authority, Plant No. 1, Castle Rock, Colorado | Medium Advanced Category.
Village of Sherman WWTP, Sherman, New York | Small Advanced Category.
Lowell Regional Wastewater Utility, City of Lowell, Massachusetts | Large Secondary Category.
Cape May Regional WWTF, Cape May Point, New Jersey | Medium Secondary Category.
Dodge City WWTF, City of Dodge City, Kansas | Large Non-Discharging Category.
Vienna Land Application System, Vienna, Georgia | Small Non-Discharging Category.
City of Waldo WWTF, Waldo, Florida | Most Improved Plant.
Edward M. Toby, University of Florida TREEO Center, Section 104(g) Trainer for the City of Waldo WWTF
Second Place:
President Street WPCP, Savannah, Georgia | Large Advanced Category.
Zeeland WWTP, City of Zeeland, Michigan | Medium Advanced Category.
South Henry Regional Sewer District, Lewisville, Indiana | Small Advanced Category.
Encina Wastewater Authority, Carlsbad, California | Large Secondary Category.
Richland WWTF, Richland, Washington | Medium Secondary Category.
North City Water Reclamation Plant, San Diego, California | Large Non-Discharging Category.
Farmington Municipal WWTP (West), Farmington, Missouri | Most Improved Plant.
Michael Jefferson, Crowder College, Neosho, Missouri, Section 104(g) Trainer for Farmington WWTP (West)
Beneficial Use of Biosolids Awards
First Place:
Merco Joint Venture, Limited Liability Company | Large Operating Projects.
City of New York Department of Environmental Protection
City of Sierra Blanca, Texas
Texas Tech University
Lexington Regional WWTP Compost Facility, Lexington, North Carolina | Small Operating Projects.
International/Poland Research Project, coordinated by EPA Region III | Research Activities.
City of Wyoming Clean Water Plant, Wyoming, Michigan | Public Acceptance (Municipal).
Second Place:
Unified Sewerage Agency, Washington County, Oregon | Large Operating Projects.
DeKalb County Public Works Water and Sewer-Pole Bridge Creek AST Facility, DeKalb County, Georgia | Small Operating Projects.
Western Carolina Regional Sewer Authority, Greenville, South Carolina | Public Acceptance (Municipal).
Honorable mention:
Water Works and Sanitary Board, City of Montgomery, Alabama | Large Operating Projects.
Beltona Land Reclamation Program, Jefferson County Commission Environmental Services Dept., Birmingham, Alabama | Large Operating Projects.
Norman H. Larkins WPCF, City of Clinton, North Carolina | Small Operating Projects.
Special award:
BioCycle, Journal of Composting and Recycling, Emmaus, Pennsylvania | For Outstanding Journalistic Efforts to Promote Sound Science and Good Practices for Composting and Recycling of Biosolids and Other Organic Residuals.
Northeast Ohio Regional Sewer District Cleveland, Ohio | For Optimal Use of a Waste Heat Boiler Recovery System During Incineration.
Pretreatment Awards
First Place:
City of Greeley, Colorado | 0-25 Significant Industrial Users (SIUs).
Metro Wastewater Reclamation District, Denver, Colorado | 26-100 SIUs.
City of Fort Worth, Texas | Greater than 100 SIUs.
Second Place:
City of Annapolis, Maryland | 0-25 SIUs.
City of Wyoming, Michigan | 26-100 SIUs.
Orange County Sanitation District, Fountain Valley, California | Greater than 100 SIUs.
Storm Water Management Awards
First Place:
Brevard County Surface Water Improvement Viera, Florida | Municipal.
Northeast Ohio Regional Sewer District, Southerly Wastewater Treatment Center, Storm Water Pollution Prevention Plan. | Industrial.
Combined Sewer Overflow Control Awards
First Place:
CSO Abatement Program, City of Saco, Maine
Second Place:
CSO Remediation Program, Corvallis, Oregon

Dated: September 15, 2000.
Michael B. Cook,
Director, Office of Wastewater Management.

[FR Doc. 00-24674 Filed 9-25-00; 8:45 am]

BILLING CODE 6560-50-U